DEPARTMENT OF THE INTERIOR

National Park Service

[NPS-WASO-NAGPRA-22813; PPWOCRADN0-PCU00RP14.R50000]

Notice of Inventory Completion: Arkansas Archeological Survey, Fayetteville, AR

AGENCY: National Park Service, Interior.

ACTION: Notice.

SUMMARY: The Arkansas Archeological Survey has completed an inventory of human remains, in consultation with the appropriate Indian tribes, and has determined that there is no cultural affiliation between the human remains and any present-day Indian tribes. Representatives of any Indian tribe not identified in this notice that wish to request transfer of control of these human remains should submit a written request to the Arkansas Archeological Survey. If no additional requestors come forward, transfer of control of the human remains to the Indian tribes stated in this notice may proceed.

DATES: Representatives of any Indian tribe not identified in this notice that wish to request transfer of control of these human remains should submit a written request with information in support of the request to the Arkansas Archeological Survey at the address in this notice by March 27, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the completion of an inventory of human remains under the control of the Arkansas Archeological Survey, Fayetteville, AR. The human remains were removed from unknown locations in the state of Arkansas.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Arkansas Archeological Survey professional staff in consultation with representatives of Caddo Nation of Oklahoma, The Osage Nation (previously listed as the Osage Tribe), The Quapaw Tribe of Indians, and Tunica-Biloxi Indian Tribe. These human remains were inventoried and documented by physical anthropologists at the University of Arkansas.

History and Description of the Remains

At an unknown date, human remains representing, at minimum, one individual (75 FSN 182) were recovered from an unknown location in the state of Arkansas. These human remains were donated to the Arkansas Archeological Survey at an unknown date. No known individual was identified. No associated funerary objects are present.

At an unknown date, human remains representing, at minimum, one individual (85-814) were recovered from an unknown location in the state of Arkansas. These human remains were donated to the Arkansas Archeological Survey in 1985. No known individual was identified. No associated funerary objects are present.

At an unknown date, human remains representing, at minimum, three individuals (85-812) were recovered from an unknown location in the state of Arkansas. These human remains were donated to the Arkansas Archeological Survey in 1985. No known individuals were identified. No associated funerary objects are present.

At an unknown date, human remains representing, at minimum, two individuals (94-1046) were recovered from an unknown location in the state of Arkansas. These human remains were donated to the Arkansas Archeological Survey in 1994. No known individuals were identified. No associated funerary objects were present.

At an unknown date, human remains representing, at minimum, one individual (94-603) were recovered from an unknown location in the state of Arkansas. These human remains were donated to the Arkansas Archeological Survey in 1994. No known individual was identified. No associated funerary objects were present.

At an unknown date, human remains representing, at minimum, five individuals (97-734-1 to -5) were recovered from an unknown location in the state of Arkansas. These human remains were donated to the Arkansas Archeological Survey in 1997. No known individuals were identified. No associated funerary objects were present.

At an unknown date, human remains representing, at minimum, three individuals (97-735) were recovered from an unknown location in the state of Arkansas. These human remains were donated to the Arkansas Archeological Survey in 1997. No known individuals were identified. No associated funerary objects were present.

At an unknown date, human remains representing, at minimum, two individuals (98-687 and 98-688) were recovered from an unknown location in the state of Arkansas. These human remains were donated to the Arkansas Archeological Survey in 1998. No known individuals were identified. No associated funerary objects were present.

At an unknown date, human remains representing, at minimum, two individuals (94-1019) were recovered from an unknown location in the state of Arkansas. These human remains were donated to the Arkansas Archeological Survey in 1994. No known individuals were identified. No associated funerary objects were present.

At an unknown date, human remains representing, at minimum, one individual (92-1343) were recovered from an unknown location in the state of Arkansas. These human remains were donated to the Arkansas Archeological Survey in 1992. No known individual was identified. No associated funerary objects were present.

At an unknown date, human remains representing, at minimum, two individuals (95-929) were recovered from an unknown location in the state of Arkansas. These human remains were donated to the Arkansas Archeological Survey in 1995. No known individuals were identified. No associated funerary objects were present.

At an unknown date, human remains representing, at minimum, three individuals (95-930) were recovered from an unknown location in the state of Arkansas. These human remains were donated to the Arkansas Archeological Survey in 1995. No known individuals were identified. No associated funerary objects were present.

At an unknown date, human remains representing, at minimum, one individual (2011-503-116) were recovered from an unknown location in Arkansas. These human remains were donated to the Arkansas Archeological Survey in 2011. No known individual was identified. No associated funerary objects were present.

At an unknown date, human remains representing, at minimum, three individuals (2015-613, 667) were recovered from an unknown location in Arkansas. These human remains were donated to the Arkansas Archeological Survey in 2015. No known individuals were identified. No associated funerary objects were present.

At an unknown date, human remains representing, at minimum, one individual (2015-673) were recovered from an unknown location in Arkansas. These human remains were donated to the Arkansas Archeological Survey in 2015. No known individual was identified. No associated funerary objects were present.

On occasion, the Arkansas Archeological Survey has received human remains that have been unaccompanied by any information about the location of discovery beyond the state of Arkansas. Diagnostic artifacts found in the state of Arkansas indicate that these human remains were probably buried during the Prehistoric Period (11,650 B.C.-A.D. 1541). Inspection and documentation by physical anthropologists at the University of Arkansas indicate that these human remains are of an age and character to be identified as the remains of individuals who were buried in now unknown locations at least three centuries ago. The preponderance of evidence indicates that these are Native Americans who resided in Arkansas during the Prehistoric period.

Current research indicates that the earliest Paleoindian migrants were present in Arkansas in the waning centuries of the Pleistocene. Diagnostic Clovis and affiliated projectile points found in the state demonstrate that this residence began at least 11,600 years ago. Native people continued to reside in all parts of Arkansas through the end of the Prehistoric period which is marked at A.D. 1541 with the arrival of Spanish explorers on the Hernando DeSoto expedition.

Since none of the human remains enumerated in this NIC can be traced to a known archeological site, it is not possible to make a determination with regard to their potential affiliation with any of the Indian tribes with whom the Arkansas Archeological Survey engages in consultation.

Determinations Made by the Arkansas Archeological Survey

Officials of the Arkansas Archeological Survey

• Pursuant to 25 U.S.C. 3001(9), the human remains described in this notice are Native American based on inspection and documentation by physical anthropologists at the University of Arkansas.

• Pursuant to 25 U.S.C. 3001(9), the human remains described in this notice represent the physical remains of 31 individuals of Native American ancestry.

• Pursuant to 25 U.S.C. 3001(2), a relationship of shared group identity cannot be reasonably traced between the Native American human remains and any present-day Indian tribe and any present-day Indian tribe.

• According to final judgments of the Indian Claims Commission, the land from which the Native American human remains were removed is the aboriginal land of Caddo Nation of Oklahoma, The Osage Nation (previously listed as the Osage Tribe), The Quapaw Tribe of Indians, and Tunica-Biloxi Indian Tribe.

• Pursuant to 43 CFR 10.11(c)(1), the disposition of the human remains may be to Caddo Nation of Oklahoma, The Osage Nation (previously listed as the Osage Tribe), The Quapaw Tribe of Indians, and Tunica-Biloxi Indian Tribe.

Additional Requestors and Disposition

Representatives of any Indian tribe or Native Hawaiian organization not identified in this notice that wish to request transfer of control of these human remains should submit a written request with information in support of the request Dr. George Sabo, Director, Arkansas Archeological Survey, 2475 North Hatch Avenue, Fayetteville, AR 72704, telephone (479) 575-3556, by March 27, 2017. After that date, if no additional requestors have come forward, transfer of control of the human remains to Caddo Nation of Oklahoma, The Osage Nation (previously listed as the Osage Tribe), The Quapaw Tribe of Indians, and Tunica-Biloxi Indian Tribe may proceed.

The Arkansas Archeological Survey is responsible for notifying Caddo Nation of Oklahoma, The Osage Nation (previously listed as the Osage Tribe), The Quapaw Tribe of Indians, and Tunica-Biloxi Indian Tribe that this notice has been published.

Dated: January 27, 2017.
Melanie O'Brien,
Manager, National NAGPRA Program.

[FR Doc. 2017-03633 Filed 2-23-17; 8:45 am]

BILLING CODE 4312-52-P